DEPARTMENT OF THE INTERIOR

Bureau of Indian Affairs

25 CFR Parts 30, 37, 39, 42, 44, and 47

RIN 1076-AE49

Implementation of the No Child Left Behind Act of 2001

AGENCY: Bureau of Indian Affairs, Interior.

ACTION: Proposed rule; reopening of comment period; correction.

SUMMARY: This document corrects the heading of a document that reopened the comment period for a proposed rule published in the Federal Register of Wednesday, July 21, 2004, at 69 FR 43547. This document corrects the title to read as set forth above.

FOR FURTHER INFORMATION CONTACT: Catherine Freels, Designated Federal Official, P.O. Box 1430, Albuquerque, NM 87103-1430; phone: (505) 248-7240; e-mail: cfreels@bia.edu.

Correction

The document published Wednesday July 21, 2004, was incorrectly titled, “Home-living Programs and School Closure and Consolidation.” The title is corrected to read “Implementation of the No Child Left Behind Act of 2001”.

Dated: July 21, 2004.
Theresa Rosier,
Counselor to the Assistant Secretary—Indian Affairs.

[FR Doc. 04-17071 Filed 7-23-04; 8:45 am]

BILLING CODE 4310-6W-P